DEPARTMENT OF ENERGY

Federal Energy Regulatory Commission

[Docket No. CP01-361-000]

Northwest Pipeline Corporation; Notice of Intent To Prepare an Environmental Assessment for the Proposed Grays Harbor Pipeline Project 2001 and Request for Comments on Environmental Issues

July 26, 2001.

The staff of the Federal Energy Regulatory Commission (FERC or Commission) will prepare an environmental assessment (EA) that will discuss the environmental impacts of the Grays Harbor Pipeline Project 2001 involving construction and operation of facilities by Northwest Pipeline Corporation (Northwest) in Thurston and Grays Harbor Counties, Washington.¹ These facilities would consist of about 48.9 miles of 20-inch-diameter pipeline and 4,700 horsepower (hp) of compression. This EA will be used by the Commission in its decision-making process to determine whether the project is in the public convenience and necessity.

¹ Northwest's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Northwest provided to landowners. This fact sheet addresses a number of typically asked questions, including the use of eminent domain and how to participate in the Commission's proceedings. It is available for viewing on the FERC Internet website (www.ferc.gov).

Summary of the Proposed Project

Northwest wants to expand the capacity of its facilities in Washington to transport an additional 161,500 million British thermal units per day of natural gas to Duke Energy Grays Harbor, LLC (Duke) at the Satsop Meter Station for electricity generation at a planned new electric power plant (the Satsop Combustion Turbine Project) near Satsop, Grays Harbor County, Washington. The electric power plant would be located in the Satsop Development Park at the site of two abandoned nuclear power plant projects started in the late 1970's by the Washington Public Power Supply System (now Energy Northwest). Work on the nuclear plants was halted in 1983. Northwest seeks authority to construct and operate:

• 49 miles of 20-inch-diameter pipeline and tie-in assembly in Thurston and Grays Harbor Counties, Washington;

• Two 16-inch taps, one each on Northwest's 26-inch-diameter mainline and 30-inch-diameter loop;

• Approximately 4,700 horsepower (hp) of additional compression and related modifications at the existing Tumwater Compressor Station in Thurston County, Washington;

• A new meter station;

• Four block valve assemblies; and

• A new antenna and radio repeater at the existing Capitol Peak radio site in an existing building.

The location of the project facilities is shown in appendix 1.²

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Approximately 30 miles (61 percent) of the lateral pipeline would be constructed parallel to (loop) existing pipelines that were installed in the 1950's and 1960's and 19 miles of new right-of-way.

Over 77 percent of the the gas lateral pipeline alignment currently proposed by Northwest is the same route evaluated in the Bonneville Power Authority's (BPA) Environmental Impact Statement (EIS) and approved by the Washington State Energy Facility Site Evaluation Council (EFSEC). A summary of the route is included below.

From the tie-in with Northwest's mainline at milepost (MP) 0.0 to the transmission line corridor at MP 16.73, the pipeline alignment is the same as the route analyzed in the BPA's EIS and approved by the EFSEC.

From the BPA transmission line corridor at MP 16.73 to about MP 24.69, Northwest proposes to utilize an alignment different from the BPA/EFSEC route (that is, to continue to loop its existing Olympia to Sheldon pipeline west around Black Lake) .

From MP 24.69 to MP 28.01, Northwest's pipeline route follows the BPA/EFSEC route, and from MP 28.01 to MP 33.11, the pipeline would continue west across Capitol State Forest on the south side of the McCleary Pipeline.

From its departure from the McCleary Pipeline (MP 33.11) to the just east of the Workman Creek crossing at MP 45.73, the pipeline route followed is the same as the BPA/EFSEC route.

From MP 45.73 Northwest's alignment deviates from the BPA/EFSEC route and proceeds north across the BPA Transmission Line and west crossing the Chehalis River at two locations before reaching the tie-in at the Satsop Meter Station.

Land Requirements for Construction

Construction of the proposed facilities would require about 475.8 acres of land. Following construction, about 186.1 acres would be maintained as permanent right-of-way including the aboveground facility sites. The remaining 289.7 acres of land would be restored and allowed to revert to its former use. The upgrade to the existing Tumwater Compressor Station would be within a new 40 foot by 56 foot building within the existing compressor station property. The new Satsop Meter Station would occupy a site approximately 200 feet by 200 feet (0.92 acre); a tie-in assembly at Northwest's existing mainline at MP 0.0 would be about 90 feet by 130 feet (0.27 acre); and each block valve would require less than 0.1 acre of disturbance.

The Satsop Combustion Turbine Project would be constructed on a 13-acre industrial site formerly used as an equipment laydown area for the now abandoned nuclear power plants.

The EA Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• geology and soils

• land use

• water resources, fisheries, and wetlands

• cultural resources

• vegetation and wildlife

• air quality and noise

• endangered and threatened species

• hazardous waste

• public safety

We will also evaluate possible alternatives to the proposed project or portions of the project, and make recommendations on how to lessen or avoid impacts on the various resource areas. We have initially observed one alternative that needs to be explored from approximately MP 24.5 to MP 48.9 where the lateral pipeline could potentially follow and overlap an existing BPA electric transmission line right-of-way. Also, the applicant has identified an alternative route (the East Black Lake Alternative) from about MP 16.5 to MP 24.5 that needs to be explored in greater detail (see alternative route on maps in Appendix 1, from MP E0 to MP E7, pages 6 through 9 of 22).

In addition, the BPA prepared an EIS in November 1995 and the EFSEC completed a Site Certification Agreement in August 1999 for the project area. Those documents have already reviewed the currently proposed gas pipeline corridor to a large extent, and we intend to incorporate them by reference to the greatest extent possible in the preparation of our EA. Any relevant changes to our EA will be made as necessary.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 6.

Currently Identified Environmental Issues

We have already identified several issues that we think deserve attention based on a preliminary review of the proposed facilities and the environmental information provided by Northwest. This preliminary list of issues may be changed based on your comments and our analysis.

• Several federally listed endangered or threatened species may occur in the proposed project area.

• A total of 25.6 acres of cropland and pastureland would be converted to permanent pipeline right-of-way and about 114.2 acres of forest land including cultivated timber land would be permanently impacted.

• Six waterbodies would be crossed using the horizontal directional drill method.

• Many of the streams and rivers that would be crossed by the pipeline contain anadromous salmon which are listed or proposed for listing under the Endangered Species Act. Also, essential fish habitat is present in numerous waterbodies that the pipeline would cross.

• An increase in noise may result from the addition of 4,700 hp at the existing Tumwater Compressor Station.

• The pipeline would cross the Fort Lewis Military Reservation.

• The pipeline would cross the Black River Unit Nisqually National Wildlife Refuge.

• The pipeline would cross the Capitol State Forest property.

• Nineteen residences are known to be located within 50 feet of the proposed construction right-of-way.

We have made a preliminary decision to not address the impacts of the nonjurisdictional electric power plant facilities. An EIS was done on those facilities by the BPA and a Site Certification Agreement completed by the EFSEC. We will briefly describe the location and status of those facilities in the EA.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas 2.

• Reference Docket No. CP01-361-000.

• Mail your comments so that they will be received in Washington, DC on or before August 27, 2001.

Comments, protests and interventions may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Copies of this filing are on file with the Commission and are available for public inspection. Additional information about the proposed project is available from the Commission's Office of External Affairs at (202) 208-1088 or on the FERC website (http://www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 01-19129 Filed 7-31-01; 8:45 am]

BILLING CODE 6717-01-P